DEPARTMENT OF ENERGY

Department of Energy Regulations Guidance

AGENCY: Department of Energy.

ACTION: Notice of guidance availability.

SUMMARY: The Department of Energy (DOE) is publishing a notice of guidance availability.

DATES: This notice applies on June 24, 2025.

FOR FURTHER INFORMATION CONTACT: Mr. Jeffrey Novak, U.S. Department of Energy, Office of the General Counsel, GC-1, 1000 Independence Avenue SW, Washington, DC 20585-0121. Telephone: (202) 586-5281. Email: DOEGeneralCounsel@hq.doe.gov.

SUPPLEMENTARY INFORMATION: On May 9, 2025, President Trump issued Executive Order (E.O.) 14294, Fighting Overcriminalization in Federal Regulation, describing “the dire problem of overregulation and overcriminalization pursuant to those many regulations. To ease the regulatory burden on everyday Americans and ensure no American is transformed into a criminal for violating a regulation they have no reason to know exists,” E.O. 14294 instructs each federal agency to publish guidance reflecting its plan to address criminally liable regulatory offenses. Therefore, DOE is issuing this notice advising that the guidance document called for by E.O. 14294 can be found on its General Counsel's web page for DOE guidance documents: https://www.energy.gov/gc/doe-guidance.

Signing Authority

This document of the Department of Energy was signed on June 18, 2025, by Jeffrey Novak, Acting General Counsel, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 18, 2025.
Treena V. Garrett,
Federal Register Liaison Officer, U.S. Department of Energy.

[FR Doc. 2025-11540 Filed 6-23-25; 8:45 am]

BILLING CODE 6450-01-P